NUCLEAR REGULATORY COMMISSION

[NRC-2015-0006]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from December 25, 2014 to January 7, 2015. The last biweekly notice was published on January 6, 2015.

DATES: Comments must be filed by February 19, 2015. A request for a hearing must be filed by March 23, 2015.

ADDRESSES: You may submit comments by any of the following methods (unless this document describes a different method for submitting comments on a specific subject):

• Federal Rulemaking Web site: Go to http://www.regulations.gov and search for Docket ID NRC-2015-0006. Address questions about NRC dockets to Carol Gallagher; telephone: 301-287-3422; email: Carol.Gallagher@nrc.gov. For technical questions, contact the individual listed in the FOR FURTHER INFORMATION CONTACT section of this document.

• Mail comments to: Cindy Bladey, Office of Administration, Mail Stop: 3WFN-06-A44M, U.S. Nuclear Regulatory Commission, Washington, DC 20555-0001.

For additional direction on obtaining information and submitting comments, see “Obtaining Information and Submitting Comments” in the SUPPLEMENTARY INFORMATION section of this document.

FOR FURTHER INFORMATION CONTACT: Kay Goldstein, Office of Nuclear Reactor Regulation, U.S. Nuclear Regulatory Commission, Washington DC 20555-0001; 301-415-1506, Kay.Goldstein@nrc.gov.

SUPPLEMENTARY INFORMATION:

I. Obtaining Information and Submitting Comments

A. Obtaining Information

Please refer to Docket ID NRC-2015-0006 when contacting the NRC about the availability of information regarding this document. You may obtain publicly-available information related to this action by the following methods:

• Federal Rulemaking Web site: Go to http://www.regulations.gov and search for Docket ID NRC-2015-0006.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

B. Submitting Comments

Please include Docket ID NRC-2015-0006 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

Exelon Generation Company, LLC, and PSEG Nuclear LLC, Docket Nos. 50-277 and 50-278, Peach Bottom Atomic Power Station (PBAPS), Units 2 and 3, York and Lancaster Counties, Pennsylvania

Date of application for amendments: November 7, 2014. A publicly-available version is in ADAMS under Accession No. ML14315A084.

Description of amendment request: The proposed amendment would revise the Technical Specifications (TSs) associated with the primary containment leakage rate testing program. Specifically, the amendment would extend the frequencies for performance of the Type A containment integrated leakage rate test (ILRT) and the Type C containment isolation valve leakage rate test, required by 10 CFR part 50, Appendix J, “Primary Reactor Containment Leakage Testing for Water-Cooled Power Reactors.”

Basis for proposed no significant hazards consideration determination: As required by 10 CFR 50.91(a), the licensee has provided its analysis of the issue of no significant hazards consideration, which is presented below, with NRC staff revisions provided in [brackets]:

1. Does the proposed amendment involve a significant increase in the probability or consequences of an accident previously evaluated?

Response: No.

The proposed amendment to the TS involves the extension of the PBAPS, Units 2 and 3 Type A containment test interval to 15 years and the extension of the Type C test interval to 75 months. The current Type A test interval of 120 months (10 years) would be extended on a permanent basis to no longer than 15 years from the last Type A test. The current Type C test interval of 60 months for selected components would be extended on a performance basis to no longer than 75 months. Extensions of up to nine months (total maximum interval of 84 months for Type C tests) are permissible only for non-routine emergent conditions. The proposed extension does not involve either a physical change to the plant or a change in the manner in which the plant is operated or controlled. The containment is designed to provide an essentially leak tight barrier against the uncontrolled release of radioactivity to the environment for postulated accidents. As such, the containment and the testing requirements invoked to periodically demonstrate the integrity of the containment exist to ensure the plant's ability to mitigate the consequences of an accident, and do not involve the prevention or identification of any precursors of an accident. The change in dose risk for changing the Type A test frequency from three-per-ten years to once-per-fifteen-years, measured as an increase to the total integrated dose risk for all internal events accident sequences for PBAPS, is 5.99E-02 person-rem/yr (0.52%) using the EPRI [Electric Power Research Institute] guidance with the base case corrosion included. The change in dose risk drops to 1.60E-02 person-rem/yr (0.14%) when using the EPRI Expert Elicitation methodology. Therefore, this proposed extension does not involve a significant increase in the probability of an accident previously evaluated.

As documented in NUREG-1493, Type B and C tests have identified a very large percentage of containment leakage paths, and the percentage of containment leakage paths that are detected only by Type A testing is very small. The PBAPS, Units 2 and 3 Type A test history supports this conclusion.

The integrity of the containment is subject to two types of failure mechanisms that can be categorized as: (1) Activity based, and; (2) time based. Activity based failure mechanisms are defined as degradation due to system and/or component modifications or maintenance. Local leak rate test requirements and administrative controls such as configuration management and procedural requirements for system restoration ensure that containment integrity is not degraded by plant modifications or maintenance activities. The design and construction requirements of the containment combined with the containment inspections performed in accordance with ASME [American Society of Mechanical Engineers] Section XI, the Maintenance Rule, and TS requirements serve to provide a high degree of assurance that the containment would not degrade in a manner that is detectable only by a Type A test. Based on the above, the proposed extensions do not significantly increase the consequences of an accident previously evaluated.

The proposed amendment also deletes exceptions previously granted to allow one-time extensions of the ILRT test frequency for both Units 2 and 3. These exceptions were for activities that would have already taken place by the time this amendment is approved; therefore, their deletion is solely an administrative action that has no effect on any component and no impact on how the units are operated.

Therefore, the proposed change does not result in a significant increase in the probability or consequences of an accident previously evaluated.

2. Does the proposed change create the possibility of a new or different kind of accident from any accident previously evaluated?

Response: No.

The proposed amendment to the TS involves the extension of the PBAPS, Unit 2 and 3 Type A containment test interval to 15 years and the extension of the Type C test interval to 75 months. The containment and the testing requirements to periodically demonstrate the integrity of the containment exist to ensure the plant's ability to mitigate the consequences of an accident do not involve any accident precursors or initiators. The proposed change does not involve a physical change to the plant (i.e., no new or different type of equipment will be installed) or a change to the manner in which the plant is operated or controlled.

The proposed amendment also deletes exceptions previously granted to allow one-time extensions of the ILRT test frequency for both Units 2 and 3. These exceptions were for activities that would have already taken place by the time this amendment is approved; therefore, their deletion is solely an administrative action that does not result in any change in how the units are operated.

Therefore, the proposed change does not create the possibility of a new or different kind of accident from any previously evaluated.

3. Does the proposed change involve a significant reduction in a margin of safety?

Response: No.

The proposed amendment to TS 5.5.12 involves the extension of the PBAPS, Units 2 and 3 Type A containment test interval to 15 years and the extension of the Type C test interval to 75 months for selected components. This amendment does not alter the manner in which safety limits, limiting safety system set points, or limiting conditions for operation are determined. The specific requirements and conditions of the TS Containment Leak Rate Testing Program exist to ensure that the degree of containment structural integrity and leak-tightness that is considered in the plant safety analysis is maintained. The overall containment leak rate limit specified by TS is maintained.

The proposed change involves only the extension of the interval between Type A containment leak rate tests and Type C tests for PBAPS, Units 2 and 3. The proposed surveillance interval extension is bounded by the 15-year ILRT [i]nterval and the 75-month Type C test interval currently authorized within NEI [Nuclear Energy Institute] 94-01, Revision 3-A. Industry experience supports the conclusion that Type B and C testing detects a large percentage of containment leakage paths and that the percentage of containment leakage paths that are detected only by Type A testing is small. The containment inspections performed in accordance with ASME Section XI, TS and the Maintenance Rule serve to provide a high degree of assurance that the containment would not degrade in a manner that is detectable only by Type A testing. The combination of these factors ensures that the margin of safety in the plant safety analysis is maintained. The design, operation, testing methods and acceptance criteria for Type A, B, and C containment leakage tests specified in applicable codes and standards would continue to be met, with the acceptance of this proposed change, since these are not affected by changes to the Type A and Type C test intervals.

The proposed amendment also deletes exceptions previously granted to allow one time extensions of the ILRT test frequency for both Units 2 and 3. These exceptions were for activities that would have already taken place by the time this amendment is approved; therefore, their deletion is solely an administrative action and does not change how the units are operated and maintained. Thus, there is no reduction in any margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for Licensee: J. Bradley Fewell, Esquire, Vice President and Deputy General Counsel, Exelon Generation Company, LLC, 200 Exelon Way, Kennett Square, PA 19348.

NRC Branch Chief: Meena K. Khanna.

Florida Power and Light Company, et al., Docket Nos. 50-335 and 50-389, St. Lucie Plant, Unit Nos. 1 and 2, St. Lucie County, Florida

Date of amendment request: August 26, 2014 (ADAMS Accession No. ML14241A496).

Description of amendment request: The amendment would revise Technical Specification Section 6.8.4.h, “Containment Leakage Rate Testing Program,” extending the interval for integrated leak rate test (ILRT) from the current 10 years to 15 years.

Basis for proposed no significant hazards consideration determination: As required by 10 CFR 50.91(a), the licensee has provided its analysis of the issue of no significant hazards consideration. The NRC staff performed its own analysis, which is presented below:

1. Does the proposed change involve a significant increase in the probability or consequences of an accident previously evaluated?

Response: No.

The licensee proposed to change only the frequency of performing the ILRT, extending it from the current 10 years to 15 years. No previously evaluated accidents were postulated to be caused by the frequency of ILRT; consequently, changing the frequency of ILRT alone does not increase the probability of occurrence of any previously evaluated accident.

The proposed amendment does not involve any change in the design bases, performance, or use of the containment system. Thus, the containment system will continue to perform its design functions during normal operation and during the course of an accident (i.e., the containment system will mitigate radiological consequences of accident as it was originally designed).

Therefore, there will be no significant increase of the consequences of any accident previously evaluated.

2. Does the proposed change create the possibility of a new or different kind of accident from any accident previously evaluated?

Response: No.

The proposed amendment does not involve any change in the design bases, performance or use of the containment system. Thus, no new or different kind of accident could be created by the proposed amendment.

3. Does the proposed change involve a significant reduction in a margin of safety?

Response: No.

The proposed change does not involve any new acceptance criteria or performance parameters. The containment system, under the proposed ILRT frequency, will continue to perform its original design functions under the original design and licensing bases. Thus, the proposed change does not involve a significant reduction of margin of safety.

The NRC staff has reviewed the licensee's analysis and, based on its own analysis, determines that the three standards of 10 CFR 50.92(c) are satisfied. Therefore, the NRC staff proposes to determine that the proposed amendment involves no significant hazards consideration.

Attorney for licensee: William S. Blair, Managing Attorney—Nuclear, Florida Power & Light, 700 Universe Blvd., MS LAW/JB, Juno Beach, FL 33408-0420.

Acting NRC Branch Chief: Lisa M. Regner.

Omaha Public Power District, Docket No. 50-285, Fort Calhoun Station, Unit No. 1, Washington County, Nebraska

Date of amendment request: November 7, 2014. A publicly-available version is in ADAMS under Accession No. ML14314A087.

Description of amendment request: The proposed amendment would change Technical Specification (TS) section 3.1, Table 3-3 for Fort Calhoun Station, Unit No. 1, to correct an administrative error in the surveillance method for the containment wide range radiation monitors.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes do not involve a significant increase in the probability or consequences of an accident previously evaluated.

The proposed change to Technical Specification (TS) 3.1 Table 3-3 corrects an administrative error to the stated surveillance method introduced by TS Amendment 152 [dated March 25, 1993; ADAMS Accession No. ML15005A051)], and will make the surveillance method for the containment high range radiation monitors consistent with Updated Safety Analysis Report (USAR) Section 11.2 for the range of the monitors and consistent with the guidance for special calibration of these monitors contained in NUREG-0737 [“Clarification of TMI Action Plan Requirements,” November 1980; ADAMS Accession No. ML102560051] Table II.F.1-3. The proposed change does not involve a significant increase in the probability or consequences of an accident previously evaluated because: (1) The proposed amendment does not represent a change to the system design, (2) the proposed amendment does not alter, degrade, or prevent action described or assumed in any accident in the USAR from being performed, (3) the proposed amendment does not alter any assumptions previously made in evaluating radiological consequences, and [4]) the proposed amendment does not affect the integrity of any fission product barrier. No other safety related equipment is affected by the proposed change.

Therefore, the proposed change does not involve a significant increase in the probability or consequences of an accident previously evaluated.

2. Does the proposed amendment create the possibility of a new or different kind of accident from any accident previously evaluated?

Response: No.

The proposed change revises the surveillance method to be consistent with the guidance in NUREG-0737 Table II.F.1-3. The proposed change does not alter the physical design, safety limits, or safety analysis assumptions associated with the operation of the plant. Hence, the proposed change does not introduce any new accident initiators, nor does it reduce or adversely affect the capabilities of any plant structure or system in the performance of their safety function.

Therefore, the proposed change does not create the possibility of a new or different kind of accident from any previously evaluated.

3. Does the proposed amendment involve a significant reduction in a margin of safety?

Response: No.

The proposed change does not alter the manner in which safety limits or limiting safety system settings are determined. The safety analysis acceptance criteria are not affected by this proposed change. Further, the proposed change does not change the design function of any equipment assumed to operate in the event of an accident. The change only corrects the surveillance method of the high range post-accident radiation monitors to be consistent with the design of the monitors and NUREG-0737.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David A. Repka, Esq., Winston & Strawn, 1700 K Street NW., Washington, DC 20006-3817.

NRC Acting Branch Chief: Eric R. Oesterle.

PSEG Nuclear LLC, Docket No. 50-354, Hope Creek Generating Station, Salem County, New Jersey

Date of amendment request: November 25, 2014. A publicly-available version is in ADAMS under Accession No. ML14329B244.

Description of amendment request: The proposed amendment would revise technical specification (TS) surveillance requirement (SR) 4.7.2.1.1, to reduce the required run time of the control room emergency filtration subsystems, with heaters on, from a minimum of 10 hours to a minimum of 15 minutes, consistent with Technical Specifications Task Force (TSTF) traveler TSTF-522, Revision 0, “Revise Ventilation System Surveillance Requirements to Operate for 10 hours per Month,” with minor variations. The Notice of Availability and model safety evaluation of TSTF-522, Revision 0, were published in the Federal Register on September 20, 2012 (77 FR 58421).

Basis for proposed no significant hazards consideration determination: As required by 10 CFR 50.91(a), the licensee has provided its analysis of the issue of no significant hazards consideration, which is presented below:

1. Does the proposed change involve a significant increase in the probability or consequences of an accident previously evaluated?

Response: No.

The proposed change replaces an existing SR to operate each Control Room Emergency Filtration (CREF) subsystem equipped with electric heaters on for a 10 hour period at a frequency controlled in accordance with the SFCP [Surveillance Frequency Control Program] with a requirement to operate each subsystem for 15 continuous minutes with heaters on.

This system is not an accident initiator and therefore, these changes do not involve a significant increase in the probability of an accident. The proposed system and filter testing change is consistent with current regulatory guidance for these systems and will continue to assure that these systems perform their design function which may include mitigating accidents. Thus the change does not involve a significant increase in the consequences of an accident.

Therefore, it is concluded that this change does not involve a significant increase in the probability or consequences of an accident previously evaluated.

2. Does the proposed change create the possibility of a new or different kind of accident from any accident previously evaluated?

Response: No.

The proposed change replaces an existing SR to operate each CREF subsystem with electric heaters on for a 10 hour period at a frequency controlled in accordance with the SFCP with a requirement to operate each subsystem for 15 continuous minutes with heaters on.

The change proposed for this ventilation system does not change any system operations or maintenance activities. Testing requirements will be revised and will continue to demonstrate that the Limiting Condition for Operation is met and the system components are capable of performing their intended safety functions. The change does not create new failure modes or mechanisms and no new accident precursors are generated.

Therefore, it is concluded that this change does not create the possibility of a new or different kind of accident from any accident previously evaluated.

3. Do the proposed changes involve a significant reduction in a margin of safety?

Response: No.

The proposed change replaces an existing SR to operate each CREF subsystem with electric heaters on for a 10 hour period at a frequency controlled in accordance with the SFCP with a requirement to operate each subsystem for 15 continuous minutes with heaters on.

The design basis for the CREF systems' heaters is to heat the incoming air which reduces the relative humidity. The heater testing change proposed will continue to demonstrate that the heaters are capable of heating the air and will perform their design function. The proposed change is consistent with regulatory guidance.

Therefore, it is concluded that the proposed changes do not involve a significant reduction in a margin of safety.

Based upon the above, PSEG concludes that the proposed change presents no significant hazards consideration under the standards set forth in 10 CFR 50.92(c), and, accordingly, a finding of “no significant hazards consideration” is justified.

The NRC staff has reviewed the licensee's analysis and, based on this review, it appears that the three standards of 10 CFR 50.92(c) are satisfied. Therefore, the NRC staff proposes to determine that the amendment request involves no significant hazards consideration.

Attorney for licensee: Jeffrie J. Keenan, PSEG Nuclear LLC-N21, P.O. Box 236, Hancocks Bridge, NJ 08038.

NRC Branch Chief: Meena K. Khanna.

Southern Nuclear Operating Company, Inc. Docket Nos. 52-025 and 52-026, Vogtle Electric Generating Plant Units 3 and 4, Burke County, Georgia

Date of amendment request: November 20, 2014. A publicly-available version is in ADAMS under Accession No. ML14324A969.

Description of amendment request: The proposed change would amend Combined License Nos. NPF-91 and NPF-92 for the Vogtle Electric Generating Plant (VEGP) Units 3 and 4. The requested amendment proposes changes to revise the VEGP Updated Final Safety Analysis Report (UFSAR) to clarify a human factors engineering operational sequence analysis related to the AP1000 Automatic Depressurization System and delete the Westinghouse Electric Company's document WCAP-15847, “AP1000 Quality Assurance Procedures Supporting NRC Review of AP1000 DCD [Design Control Document] Sections 18.2 and 18.8,” that is incorporated by reference into the UFSAR. Both of the requested changes constitute changes to information identified as Tier 2* information as defined in Title 10 of the Code of Federal Regulations, Part 52, Appendix D, Section II.F.

Basis for proposed no significant hazards consideration determination: As required by 10 CFR 50.91(a), the licensee has provided its analysis of the issue of no significant hazards consideration, which is presented below:

1. Does the proposed amendment involve a significant increase in the probability or consequences of an accident previously evaluated?

Response: No.

The proposed deletion of WCAP-15847 removes obsolete and superseded procedures from the licensing basis. The amendment of the operational sequence analysis (OSA) task alters the automatic depressurization system (ADS) testing from Mode 1 to Mode 5. The proposed changes to the procedures do not involve any accident initiating component/system failure or event, and the change to the ADS testing mode helps prevent accidents would occur if the tests were performed in Mode 1. Thus, the probabilities of the accidents previously evaluated are not affected. The affected procedures and requirements do not adversely affect or interact with safety-related equipment or a radioactive material barrier, and this activity does not involve the containment of radioactive material. Thus, the proposed changes would not affect any safety-related accident mitigating function. The radioactive material source terms and release paths used in the safety analyses are unchanged, thus the radiological releases in the Updated Final Safety Analysis Report accident analyses are not affected.

Therefore, the proposed amendment does not involve a significant increase in the probability or consequences of an accident previously evaluated.

2. Does the proposed amendment create the possibility of a new or different kind of accident from any accident previously evaluated?

Response: No.

Removing WCAP-15847 from the UFSAR and amending the OSA task regarding ADS valve testing does not adversely affect the design or operation of safety-related equipment or equipment whose failure could initiate an accident other than what is already described in the licensing basis. These changes do not adversely affect safety-related equipment or fission product barriers. No safety analysis or design basis acceptance limit/criterion is challenged or exceeded by the requested change.

Therefore, the proposed amendment does not create the possibility of a new or different kind of accident.

3. Does the proposed amendment involve a significant reduction in a margin of safety?

Response: No.

The proposed changes to remove WCAP-15847 from the UFSAR and amend the OSA task do not adversely affect any safety-related equipment, design code compliance, design function, design analysis, safety analysis input or result, or design/safety margin because NQA-1 requirements are maintained in other Westinghouse procedures and testing of the ADS valves is still performed. No safety analysis or design basis acceptance limit/criterion is challenged or exceeded by the proposed changes, thus no margin of safety is reduced.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North, Birmingham, AL 35203-2015.

NRC Branch Chief: Lawrence J. Burkhart.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Progress, Inc., Docket Nos. 50-325 and 50-324, Brunswick Steam Electric Plant, Units 1 and 2, Brunswick County, North Carolina; Duke Energy Progress, Inc., Docket No. 50-261, H. B. Robinson Steam Electric Plant, Unit No. 2, Darlington County, South Carolina Duke Energy Progress, Inc., Docket No. 50-400, Shearon Harris Nuclear Power Plant, Unit 1, Wake and Chatham Counties, North Carolina; Duke Energy Florida, Inc., et al., Docket No. 50-302, Crystal River, Unit 3 Nuclear Generating Plant, Citrus County, Florida

Date of amendment requests: December 19, 2013. A redacted version was provided by letter dated March 31, 2014.

Brief description of amendments: The amendments revised the Cyber Security Plan Implementation Milestone 8 completion dates and the physical protection license conditions.

Date of issuance: December 19, 2014.

Effective date: As of the date of their issuance and shall be implemented within 30 days of the date of issuance.

Amendment Nos.: Brunswick, Unit 1: 266, Brunswick, Unit 2: 294, H. B. Robinson, Unit No. 2: 239, Shearon Harris, Unit 1: 144, and Crystal River, Unit 3: 245. A publicly-available version is in ADAMS under Accession No. ML14318A929; documents related to these amendments are listed in the Safety Evaluation enclosed with the amendments.

Renewed Facility Operating License Nos. DPR-71, DPR-62, DPR-23, and NPF-63, and Facility Operating License No. DPR-72. The amendments revised the facility operating licenses.

Date of initial notice in Federal Register: May 06, 2014 (79 FR 25899).

The Commission's related evaluation of these amendments is contained in a Safety Evaluation dated December 19, 2014.

No significant hazards consideration comments received: No.

Exelon Generation Company, LLC, Docket Nos. 50-352 and 50-353, Limerick Generating Station, Units 1 and 2, Montgomery County, Pennsylvania

Date of amendment request: December 6, 2013, as supplemented by letter dated September 19, 2014.

Brief description of amendments: The amendments revised Technical Specification (TS) setpoints and allowable values for certain area temperature instrumentation associated with the leak detection system.

Date of issuance: December 29, 2014.

Effective date: As of the date of issuance and shall be implemented within 60 days of issuance.

Amendment Nos.: 213 and 174. A publicly-available version is in ADAMS under Accession No. ML14324A808; documents related to these amendments are listed in the Safety Evaluation enclosed with the amendments.

Renewed Facility Operating License Nos. NPF-39 and NPF-85: Amendments revised the Renewed Facility Operating License and TSs.

Date of initial notice in Federal Register: April 1, 2014 (79 FR 18333). The supplemental letter dated September 19, 2014, provided additional information that clarified the application, did not expand the scope of the application as originally noticed, and did not change the staff's original proposed no significant hazards consideration determination as published in the Federal Register.

The Commission's related evaluation of the amendments is contained in a Safety Evaluation dated December 29, 2014.

No significant hazards consideration comments received: No.

Exelon Generation Company, LLC, Docket No. 50-289, Three Mile Island Nuclear Station, Unit 1 (TMI-1), Dauphin County, Pennsylvania

Date of application for amendment: February 4, 2013, as supplemented by letters dated March 24, 2014, and September 26, 2014.

Brief description of amendment: The amendment deleted various reporting requirements contained in the Technical Specifications (TSs). Specifically, the amendment deleted the Sealed Source Contamination Special Report and the Startup Report, as well as the plant-specific annual reports regarding periodic Leak Reduction Program tests, Pressurizer Power Operated Relief Valve and Pressurizer Safety Valve challenges, specific activity analysis in which the primary coolant exceeds the limits of TS 3.1.4.1, and major changes to radioactive waste treatment systems.

Date of issuance: December 30, 2014.

Effective date: As of its date of issuance, and shall be implemented within 60 days.

Amendment No.: 284. A publicly-available version is in ADAMS under Accession No. ML14330A300; documents related to this amendment are listed in the Safety Evaluation enclosed with the amendment.

Renewed Facility Operating License No. DPR-50: Amendment revised the license and the TSs.

Date of initial notice in Federal Register: March 19, 2013 (78 FR 16882).

The Commission's related evaluation of the amendment is contained in a Safety Evaluation dated December 30, 2014.

No significant hazards consideration comments received: No.

Omaha Public Power District, Docket No. 50-285, Fort Calhoun Station, Unit No. 1, Washington County, Nebraska

Date of amendment request: November 7, as supplemented by letters dated November 21 and December 10 and 19, 2014.

Brief description of amendment: The amendment revised a limited number of Technical Specification Surveillance Requirements by adding a note or footnote permitting a one-time extension from a refueling frequency (i.e., at least once per 18 months) to a maximum of 28 months.

Date of issuance: December 29, 2014.

Effective date: As of the date of issuance and shall be implemented within 30 days from the date of issuance.

Amendment No.: 279. A publicly-available version is in ADAMS under Accession No. ML14356A012; documents related to this amendment are listed in the Safety Evaluation enclosed with the amendment.

Renewed Facility Operating License No. DPR-40: The amendment revised the License and Technical Specifications.

Date of initial notice in Federal Register: November 17, 2014 (79 FR 68487). The supplemental letters dated November 21 and December 10 and 19, 2014, provided additional information that clarified the application, did not expand the scope of the application as originally noticed, and did not change the staff's original proposed no significant hazards consideration determination as published in the Federal Register.

The Commission's related evaluation of the amendment and final determination of no significant hazards consideration is contained in a safety evaluation dated December 29, 2014.

No significant hazards consideration comments received: No.

Southern Nuclear Operating Company, Inc., Georgia Power Company, Oglethorpe Power Corporation, Municipal Electric Authority of Georgia, City of Dalton, Georgia, Docket Nos. 50-321 and 50-366, Edwin I. Hatch Nuclear Plant, Unit Nos. 1 and 2, Appling County, Georgia

Date of application for amendments: August 15, 2014, as supplemented October 20, 2014.

Brief description of amendments: The amendments revise the Technical Specifications (TSs) in response to the application dated August 15, 2014, as supplemented October 20, 2014. The amendments revise TS 3.8.7, “Distribution Systems—Operating” to add critical instrumentation Busses as a result of the licensee's decision to reconfigure its busses in order to comply with the U.S. Nuclear Regulatory Commission (NRC) Order EA-12-049, “Order to Modify Licenses with Regard to Requirements for Mitigation Strategies for Beyond Design Basis External Events (BDBEE).”

Date of issuance: December 23, 2014.

Effective date: As of the date of issuance and shall be implemented prior to the end of the spring 2016 refueling outage for Unit 1 and prior to the end of the spring 2015 refueling outage for Unit 2.

Amendment Nos.: Unit 1-272 and Unit 2-216. A publicly-available version is in ADAMS under Accession No. ML14349A715; documents related to these amendments are listed in the Safety Evaluation enclosed with the amendments.

Renewed Facility Operating License Nos. DPR-57 and NPF-5: Amendments revised the licenses and the Technical Specifications.

Date of initial notice in Federal Register: September 2, 2014 (79 FR 52069). The supplemental letter dated October 20, 2014, provided additional information that clarified the application, did not expand the scope of the application as originally noticed, and did not change the staff's original proposed no significant hazards consideration determination as published in the Federal Register.

The Commission's related evaluation of the amendments is contained in a Safety Evaluation dated December 23, 2014.

No significant hazards consideration comments received: No.

Southern Nuclear Operating Company, Inc., Georgia Power Company, Oglethorpe Power Corporation, Municipal Electric Authority of Georgia, City of Dalton, Georgia, Docket Nos. 50-321 and 50-366, Edwin I. Hatch Nuclear Plant, Unit Nos. 1 and 2, Appling County, Georgia

Date of application for amendments: March 17, 2014.

Brief description of amendments: The amendments revise the Technical Specifications (TSs) to adopt Technical Specification Task Force traveler TSTF-535, Revision 0, “Revise Shutdown Margin Definition to Address Advanced Fuel Designs,” which is an approved change to the Standard Technical Specifications. The changes modify the TS definition of “Shutdown Margin” (SDM) to require calculation of the SDM at a reactor moderator temperature of 68 °F or a higher temperature that represents the most reactive state throughout the operating cycle.

Date of issuance: January 6, 2015.

Effective date: As of the date of issuance and shall be implemented prior to reactor startup following Unit 1 refueling outage 1R27 (spring 2016) and prior to reactor startup following Unit 2 refueling outage 2R23 (spring 2015).

Amendment Nos.: Unit 1-273 and Unit 2-217. A publicly-available version is in ADAMS under Accession No. ML14345A895; documents related to these amendments are listed in the Safety Evaluation enclosed with the amendments.

Renewed Facility Operating License Nos. DPR-57 and NPF-5: Amendments revised the licenses and the Technical Specifications.

Date of initial notice in Federal Register: July 22, 2014, (79 FR 42552).

The Commission's related evaluation of the amendments is contained in a Safety Evaluation dated January 6, 2015.

No significant hazards consideration comments received: No.

Southern Nuclear Operating Company, Inc., Docket Nos. 50-424 and 50-425, Vogtle Electric Generating Plant, Units 1 and 2, Burke County, Georgia

Date of application for amendments: August 31, 2012, as supplemented May 17, July 2 and September 13, 2013, and May 2, July 22, and August 11, 2014. Publicly-available copies of these documents are available in ADAMS at Accession Nos. ML12248A035, ML13137A480, ML13184A267, ML13256A306, ML14122A364, ML14203A252 and ML14223A616.

Brief description of amendments: The amendments revise the licensing basis for the VEGP by adding license conditions that allow for the voluntary implementation of the regulation in Title 10 of the Code of Federal Regulations (10 CFR) Section 50.69, “Risk-informed categorization and treatment of structures, systems, and components for nuclear power reactors.” As stated in 10 CFR 50.69, a licensee may voluntarily comply with 10 CFR 50.69 as an alternative to compliance with the following requirements for certain structures, systems and components (SSCs) after it submits and NRC approves an application for license amendment: (i) 10 CFR part 21; (ii) a portion of 10 CFR 50.46; (iii) 10 CFR 50.49; (iv) 10 CFR 50.55(e); (v) certain requirements of 10 CFR 50.55a; (vi) 10 CFR 50.65, except for paragraph (a)(4); (vii) 10 CFR 50.72; (viii) 10 CFR 50.73; (ix) Appendix B to10 CFR part 50; (x) certain containment leakage testing requirements; and (xi) certain requirements of Appendix A to 10 CFR part 100.

Date of issuance: December 17, 2014.

Effective date: As of the date of issuance and shall be implemented within 90 days from the date of issuance.

Amendment Nos.: 173 and 155. A publicly-available version is in ADAMS under Accession No. ML14237A034. Documents related to this amendment are listed in the Safety Evaluation enclosed with the amendment.

Renewed Facility Operating License Nos. NPF-68 and NPF-81: Amendments revised the Renewed Facility Operating Licenses.

Date of initial notice in Federal Register: September 2, 2014 (79 FR 52067). The supplemental letters dated May 17 and July 2, 2013, provide additional information that clarified the application, did not expand the scope of the application as originally noticed, and did not change the staff's original proposed no significant hazards consideration determination as published in the Federal Register.

The Commission's related evaluation of the amendments is contained in a Safety Evaluation dated December 17, 2014.

No significant hazards consideration comments received: No.

Dated at Rockville, Maryland, this 12th day of January 2015.
For the Nuclear Regulatory Commission.
Michele G. Evans,
Director, Division of Operating Reactor Licensing, Office of Nuclear Reactor Regulation.

[FR Doc. 2015-00787 Filed 1-16-15; 8:45 am]

BILLING CODE 7590-01-P